DEPARTMENT OF COMMERCE

National Oceanic and Atmospheric Administration

[RTID 0648-XD097]

Pacific Fishery Management Council; Public Meeting

AGENCY: National Marine Fisheries Service (NMFS), National Oceanic and Atmospheric Administration (NOAA), Commerce.

ACTION: Notice of public meeting.

SUMMARY: The Pacific Fishery Management Council's (Pacific Council) will convene an online meeting of its Ad Hoc Equity and Environmental Justice Committee (EEJC) to elect a chair and make plans for its first working meeting. This meeting is open to the public.

DATES: The online meeting will be held Tuesday, July 11, 2023, from 8 a.m. to 10 a.m. Pacific Daylight Time. The scheduled ending time for this meeting is an estimate. The meeting will adjourn when business for the day is completed.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Jim Seger, Staff Officer, Pacific Council; telephone: (503) 820-2416.

SUPPLEMENTARY INFORMATION: The EEJC will have an organizational meeting to elect a chair and plan for its first working session. This committee was formed by the Pacific Council at its April 2023 meeting to advise the Pacific Council on working with NMFS on the forthcoming EEJ Strategy Regional Implementation Plan and the Geographic Strategic Plan. No management actions will be decided by the EEJC but recommendations may be provided to the Pacific Council at its September 7-14, 2023 meeting. A detailed agenda for the webinar will be available on the Pacific Council's website prior to the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: June 20, 2023.
Rey Israel Marquez,
Acting Deputy Director, Office of Sustainable Fisheries, National Marine Fisheries Service.

[FR Doc. 2023-13412 Filed 6-22-23; 8:45 am]

BILLING CODE 3510-22-P